DEPARTMENT OF ENERGY

Federal Energy Regulatory Commission

[Docket No. EC00-64-000, et al.]

Cobisa-Person Limited Partnership, et al.; Electric Rate and Corporate Regulation Filings

March 22, 2000.

Take notice that the following filings have been made with the Commission:

1. Cobisa-Person Limited Partnership

[Docket No. EC00-64-000]

Take notice that on March 16, 2000, Cobisa-Person Limited Partnership (Cobisa-Person), 820 Gessner, Suite 930, Houston, Texas 77024, submitted for filing an application for approval under Section 203 of the Federal Power Act of the acquisition of Cobisa-Person by affiliates of Delta Power Company, LLC and John Hancock Life Insurance Company. No determination has been made that the submittal constitutes a complete filing.

According to the applicant, Cobisa-Person is developing an approximately 140 MW natural gas and oil-fired generation facility in Bernalillo County, New Mexico. Cobisa-Person will sell all energy and capacity produced by the facility to Public Service Company of New Mexico at market-based rates pursuant to a long-term power purchase agreement that has been accepted for filing by the Commission.

Comment date: April 17, 2000, in accordance with Standard Paragraph E at the end of this notice.

2. Orion Power MidWest, LLC

[Docket No. EG00-115-000]

Take notice that on March 17, 2000, Orion Power MidWest, LLC, with an office located at c/o Orion Power Holdings, Inc., 7 E. Redwood Street, 10th Floor, Baltimore, Maryland 21202, filed with the Federal Energy Regulatory Commission (Commission) an application for determination of exempt wholesale generator status pursuant to Part 365 of the Commission's regulations.

Comment date: April 12, 2000, in accordance with Standard Paragraph E at the end of this notice. The Commission will limit its consideration of comments to those that concern the adequacy or accuracy of the application.

3. Western New York Wind Corp.

[Docket No. EG00-116-000]

Take notice that on March 21, 2000, Western New York Wind Corp. (Western Wind), a New York corporation with its headquarters in Wyoming County, New York, filed with the Federal Energy Regulatory Commission an application for determination of exempt wholesale generator (EWG) status pursuant to Part 365 of the Commission's regulations.

Western Wind is a New York corporation with no affiliates or subsidiaries. Western Wind will construct, own and operate wind power generators in upper New York state. No state EWG findings are required.

Comment date: April 12, 2000, in accordance with Standard Paragraph E at the end of this notice. The Commission will limit its consideration of comments to those that concern the adequacy or accuracy of the application.

4. Consolidated Edison Energy Massachusetts, Inc.

[Docket No. ER99-3248-003]

Take notice that on March 17, 2000, Consolidated Edison Energy Massachusetts, Inc. (CEEMI) tendered for filing its compliance filing with respect to Consolidated Edison Energy Massachusetts FERC Electric Tariff No. 1, Market Based Rates Tariff.

CEEMI states that a copy of this filing has been served by mail upon The New York State Public Service Commission.

Comment date: April 7, 2000, in accordance with Standard Paragraph E at the end of this notice.

5. Unicom Investments, Inc.

[Docket No. EL00-54-000]

Take notice that on March 17, 2000, Unicom Investments, Inc. (UII), on behalf of itself and certain grantor trusts, business trusts or limited liability companies or partnerships of limited liability companies of which UII would be the sole beneficiary or member filed with the Federal Energy Regulatory Commission a petition for declaratory order disclaiming jurisdiction and request for expedited consideration.

The Applicants are seeking a disclaimer of jurisdiction on connection with a lease/leaseback financing involving three Facilities.

Comment date: April 17, 2000, in accordance with Standard Paragraph E at the end of this notice.

6. Southwestern Electric Power Company

[Docket No. ER00-1748-001]

Take notice that on March 17, 2000, Southwestern Electric Power Company (SWEPCO) tendered for filing a revised final return on common equity (Final ROE) to be used in redetermining or “truing-up” cost-of-service formula rates for wholesale service in Contract Year 1999 to Northeast Texas Electric Cooperative, Inc., the City of Bentonville, Arkansas, Rayburn Country Electric Cooperative, Inc., Cajun Electric Power Cooperative, Inc., Tex-La Electric Cooperative of Texas, Inc., the City of Hope, Arkansas, and East Texas Electric Cooperative, Inc. SWEPCO provides service to these Customers under contracts which provide for periodic changes in rates and charges determined in accordance with cost-of-service formulas, including a formulaic determination of the return on common equity. The revised lower Final ROE reflects a minor adjustment to the original filing on March 1, 2000 in this proceeding.

SWEPCO continues to request an effective date of January 1, 1999.

Copies of the filing were served upon the affected wholesale Customers, the Public Utility Commission of Texas, the Louisiana Public Service Commission and the Arkansas Public Service Commission.

Comment date: April 7, 2000, in accordance with Standard Paragraph E at the end of this notice.

7. Avista Corporation

[Docket No. ER00-1903-000]

Take notice that on March 17, 2000, Avista Corporation, tendered for filing with the Federal Energy Regulatory Commission pursuant to section 35.12 of the Commissions, 18 CFR Part 35.12, an executed Amendment to a Mutual Netting Agreement with Tractebel Energy Marketing, Inc., previously filed with the FERC under Docket No. ER99-61-000, Service Agreement No. 259, effective 10/1/98 changing billing and payment terms.

AVA requests waiver of the prior notice requirements and requests an effective date of March 1, 2000 for the amended terms for net billing of transactions.

Notice of the filing has been served upon the following: Mr. Trey Nixon, Tractebel Energy Marketing, Inc., 1177 West Loop South, Suite 800, Houston, TX 77027.

Comment date: April 7, 2000, in accordance with Standard Paragraph E at the end of this notice.

8. PPL Electric Utilities Corporation

[Docket No. ER00-1904-000]

Take notice that on March 17, 2000, PPL Electric Utilities Corporation (PPL) filed a Service Agreement in substitution for the prior Service Agreement filed on July 14, 1999. The Service Agreement adds Edison Mission Marketing & Trading, Inc. (EMMT) as an eligible customer under the Tariff.

PPL states that copies of this filing have been supplied to EMMT and to the Pennsylvania Public Utility Commission.

Comment date: April 7, 2000, in accordance with Standard Paragraph E at the end of this notice.

9. PPL Electric Utilities Corporation

[Docket No. ER00-1905-000]

Take notice that on March 17, 2000, PPL Electric Utilities Corporation d/b/a PPL Utilities (formerly known as PP&L, Inc.) (PPL) filed a Service Agreement dated February 29, 2000, with The Detroit Edison Company (DEC) under PPL's Market-Based Rate and Resale of Transmission Rights Tariff, FERC Electric Tariff, Revised Volume No. 5. The Service Agreement adds DEC as an eligible customer under the Tariff.

PPL requests an effective date of March 17, 2000 for the Service Agreement.

PPL states that copies of this filing have been supplied to DEC and to the Pennsylvania Public Utility Commission.

Comment date: April 7, 2000, in accordance with Standard Paragraph E at the end of this notice.

10. PPL Electric Utilities Corporation

[Docket No. ER00-1906-000]

Take Notice that on March 17, 2000, PPL Electric Utilities Corporation d/b/a PPL Utilities (formerly known as PP&L, Inc.) (PPL) filed a Service Agreement dated February 16, 2000 with ONEOK Power Marketing Company (ONEOK) under PPL's Market-Based Rate and Resale of Transmission Rights Tariff, FERC Electric Tariff, Revised Volume No. 5. The Service Agreement adds ONEOK as an eligible customer under the Tariff.

PPL requests an effective date of March 17, 2000 for the Service Agreement.

PPL states that copies of this filing have been supplied to ONEOK and to the Pennsylvania Public Utility Commission.

Comment date: April 7, 2000, in accordance with Standard Paragraph E at the end of this notice.

11. PPL Electric Utilities Corporation

[Docket No. ER00-1907-000]

Take notice that on March 17, 2000, PPL Electric Utilities Corporation d/b/a PPL Utilities (formerly known as PP&L, Inc.) (PPL) filed a Service Agreement dated March 6, 2000 with Citizens Power Sales LLC (Citizens) under PPL's Market-Based Rate and Resale of Transmission Rights Tariff, FERC Electric Tariff, Revised Volume No. 5. The Service Agreement adds Citizens as an eligible customer under the Tariff.

PPL requests an effective date of March 17, 2000 for the Service Agreement.

PPL states that copies of this filing have been supplied to Citizens and to the Pennsylvania Public Utility Commission.

Comment date: April 7, 2000, in accordance with Standard Paragraph E at the end of this notice.

12. Allegheny Energy Service Corporation on Behalf of Allegheny Energy Supply Company, LLC

[Docket No. ER00-1908-000]

Take notice that on March 17, 2000, Allegheny Energy Service Corporation on behalf of Allegheny Energy Supply Company, LLC (Allegheny Energy Supply) filed Supplement No. 27 to add one (1) new Customer to the Market Rate Tariff under which Allegheny Energy Supply offers generation services.

Allegheny Energy Supply requests a waiver of notice requirements to make service available as of January 17, 2000 or on a date as determined by the Commission to El Paso Merchant Energy, L.P.

Copies of the filing have been provided to the Public Utilities Commission of Ohio, the Pennsylvania Public Utility Commission, the Maryland Public Service Commission, the Virginia State Corporation Commission, the West Virginia Public Service Commission, and all parties of record.

Comment date: April 7, 2000, in accordance with Standard Paragraph E at the end of this notice.

13. Allegheny Energy Service Corporation, on Behalf of Allegheny Energy Supply Company, LLC

[Docket No. ER00-1909-000]

Take notice that on March 17, 2000, Allegheny Energy Service Corporation on behalf of Allegheny Energy Supply Company, LLC (Allegheny Energy Supply) filed Supplement No. 28 to add one (1) new Customer to the Market Rate Tariff under which Allegheny Energy Supply Company offers generation services; and filed Amendment No. 1 to Supplement No. 28 to incorporate a Netting Agreement with Tenaska Power Services Company into the tariff provisions.

Allegheny Energy Supply requests a waiver of notice requirements to make service available as of January 31, 2000 to Tenaska Power Services Company and make the Netting Agreement effective as of March 13, 2000.

Copies of the filing have been provided to the Public Utilities Commission of Ohio, the Pennsylvania Public Utility Commission, the Maryland Public Service Commission, the Virginia State Corporation Commission, the West Virginia Public Service Commission, and all parties of record.

Comment date: April 7, 2000, in accordance with Standard Paragraph E at the end of this notice.

14. Allegheny Energy Service Corporation, on Behalf of Monongahela Power Company, The Potomac Edison Company, and West Penn Power Company (Allegheny Power)

[Docket No. ER00-1910-000]

Take notice that on March 17, 2000, Allegheny Energy Service Corporation on behalf of Monongahela Power Company, The Potomac Edison Company and West Penn Power Company (Allegheny Power), filed Supplement No. 74 to add Statoil Energy Services, Inc. to Allegheny Power Open Access Transmission Service Tariff which has been accepted for filing by the Federal Energy Regulatory Commission in Docket No. ER96-58-000.

The proposed effective date under the Service Agreement is April 1, 2000.

Copies of the filing have been provided to the Public Utilities Commission of Ohio, the Pennsylvania Public Utility Commission, the Maryland Public Service Commission, the Virginia State Corporation Commission, and the West Virginia Public Service Commission.

Comment date: April 7, 2000, in accordance with Standard Paragraph E at the end of this notice.

15. South Carolina Electric & Gas Company

[Docket No. ER00-1911-000]

Take notice that on March 17, 2000, South Carolina Electric & Gas Company (SCE&G) submitted a service agreement establishing Allegheny Energy Supply Company, LLC as a customer under the terms of SCE&G's Negotiated Market Sales Tariff.

Copies of this filing were served upon Allegheny Energy Supply Company, LLC and the South Carolina Public Service Commission.

Comment date: April 7, 2000, in accordance with Standard Paragraph E at the end of this notice.

16. San Joaquin Cogen Limited

[Docket No. ER00-1912-000]

Take notice that on March 17, 2000, San Joaquin Cogen Limited (San Joaquin), an Exempt Wholesale Generator that owns and operates a 49 MW gas-filed electric generation plant in Lathrop, California, tendered for filing a Power Purchase and Sale Agreement between San Joaquin and El Paso Merchant Energy, L.P.

San Joaquin requests that the Agreement be permitted to become effective February 17, 2000.

Comment date: April 7, 2000, in accordance with Standard Paragraph E at the end of this notice.

17. Deseret Generation & Transmission Co-operative

[Docket No. ER00-1913-000]

Take notice that on March 17, 2000, Deseret Generation & Transmission Co-operative, Inc. (Deseret), tendered for filing an executed umbrella non-firm point-to-point service agreement with American Electric Power Service Corporation, as agent for the utility subsidiaries of American Electric Power Company, Inc.(AEP) under its open access transmission tariff.

Deseret requests a waiver of the Commission's notice requirements for an effective date of February 24, 2000.

AEP has been provided a copy of this filing.

Comment date: April 7, 2000, in accordance with Standard Paragraph E at the end of this notice.

18. Deseret Generation & Transmission Co-operative

[Docket No. ER00-1914-000]

Take notice that on March 17, 2000, Deseret Generation & Transmission Co-operative, Inc. (Deseret), tendered for filing an executed umbrella short-term firm point-to-point service agreement with American Electric Power Service Corporation, as agent for the utility subsidiaries of American Electric Power Company, Inc.(AEP) under its open access transmission tariff.

Deseret requests a waiver of the Commission's notice requirements for an effective date of February 24, 2000.

AEP has been provided a copy of this filing.

Comment date: April 7, 2000, in accordance with Standard Paragraph E at the end of this notice.

19. PECO Energy Company

[Docket No. ER00-1915-000]

Take notice that on March 17, 2000, PECO Energy Company (PECO) filed under Section 205 of the Federal Power Act, 16 U.S.C. S 792 et seq., an Agreement dated March 16, 2000 with NRG Power Marketing, Inc. (NRGPM) under PECO's FERC Electric Tariff Original Volume No. 1 (Tariff).

PECO requests an effective date of March 20, 2000 for the Agreement.

PECO states that copies of this filing have been supplied to NRG Power Marketing, Inc. and to the Pennsylvania Public Utility Commission.

Comment date: April 7, 2000, in accordance with Standard Paragraph E at the end of this notice.

20. New Century Services, Inc.

[Docket No. ER00-1916-000]

Take notice that on March 17, 2000, New Century Services, Inc. on behalf of Cheyenne Light, Fuel and Power Company, Public Service Company of Colorado, and Southwestern Public Service Company (the Companies) tendered for filing a service agreement under their Joint Open Access Transmission Service Tariff for Firm Point-to-Point Transmission Service between the Companies and Public Service Company of Colorado—Wholesale Merchant Function.

Comment date: April 7, 2000, in accordance with Standard Paragraph E at the end of this notice.

21. Puget Sound Energy, Inc.

[Docket No. ER00-1926-000]

Take notice that on March 9, 2000, Puget Sound Energy, Inc. filed a quarterly report for the quarter ended December 31, 1999.

Comment date: April 11, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7715 Filed 3-28-00; 8:45 am]

BILLING CODE 6717-01-P